DEPARTMENT OF TRANSPORTATION

Office of the Secretary

[Docket No. OST-95-950]

Notice of Request for Extension of a Previously Approved Collection

AGENCY: Office of the Secretary, DOT.

ACTION: Notice and request for comments.

SUMMARY: In accordance with the Paperwork Reduction Act of 1995 (44 U.S.C. 3501 et seq.), this notice announces that the Information Collection Request (ICR) abstracted below has been forwarded to the Office of Management and Budget (OMB) for renewal and comment. The ICR describes the nature of the information collection and its expected cost and burden. The Federal Register Notice with a 60-day comment period soliciting comments on the following collection of information was published on October 19, 2005 [FR Vol. 70, No. 201, page 60869]. No comments were received.

DATES: Comments on this notice must be received by February 6, 2006 and sent to the attention of the DOT/OST Desk Officer, Office of Information and Regulatory Affairs, Office of Management and Budget, Docket library, Room 10102, 725 17th Street, NW., Washington, DC 20503.

FOR FURTHER INFORMATION CONTACT: Jack Schmidt, (202) 366-5420, Office of Aviation Analysis, Office of the Assistant Secretary for Aviation and International Affairs, Office of the Secretary, U.S. Department of Transportation, 400 Seventh Street, SW., Washington, DC 20590.

SUPPLEMENTARY INFORMATION: Title: Passenger Manifest Information.

OMB Control Number: 2105-0534.

Affected Public: All U.S. air carriers and foreign air carriers operating international flights to and from the United States, travel agents doing business in the U.S. and the traveling public.

Annual Estimated Burden Hours: 833,464. In the 60-day notice mentioned above, the annual burden hours were shown as 1.05 million. Since the time of that notice, the methodology used to calculate the burden hours was updated to reflect international travel growth as well as improved efficiencies resulting from technological changes especially from an increased use of the Internet.

Comments are invited on: (a) Whether this collection of information is necessary for the proper performance of the functions of the agency, including whether the information will have practical utility; (b) the accuracy of the agency's estimate of the burden of the continued collection of information; (c) ways to enhance the quality, utility, and clarity of the information collected; and (d) ways to minimize the burden of the collection of information on the respondents, including the use of automated collection techniques or other forms of information technology.

All responses to this notice will be summarized and included in the request for OMB approval. All comments will also become a matter of public record.

Issued in Washington, DC, on December 29, 2005.
Steven B. Lott,
Manager, Strategic Integration IT Investment Management Office.

[FR Doc. E6-10 Filed 1-5-06; 8:45 am]

BILLING CODE 4910-62-P